DEPARTMENT OF COMMERCE

National Oceanic and Atmospheric Administration

[I.D. 103003D]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for EFPs to conduct experimental fishing; request for comments.

SUMMARY: NMFS announces that the Assistant Regional Administrator for Sustainable Fisheries, Northeast Region, NMFS (Assistant Regional Administrator) proposes to recommend that EFPs be issued in response to an application submitted by the Cape Cod Commercial Hook Fishermen's Association (CCCHFA), in collaboration with the New England Aquarium and NMFS. The EFP would allow up to six vessels to retain undersized Atlantic cod (Gadus morhua) in the area of the Great South Channel east onto Georges Bank from December 2003 through November 2004. The Assistant Regional Administrator has made a preliminary determination that the application contains all of the required information and warrants further consideration and that the activities to be authorized under the EFPs would be consistent with the goals and objectives of the Northeast Multispecies Fishery Management Plan. However, further review and consultation may be necessary before a final determination is made to issue EFPs.

DATES: Comments on this action must be received on or before November 28, 2003.

ADDRESSES: Written comments should be sent to Patricia A. Kurkul, Regional Administrator, NMFS, NE Regional Office, 1 Blackburn Drive, Gloucester, MA 01930. Mark the outside of the envelope “Comments on CCCHFA Undersized Cod EFP Proposal.” Comments may also be sent via fax to (978) 281-9135. Comments will not be accepted if submitted via e-mail or the Internet.

FOR FURTHER INFORMATION CONTACT: Heather Sagar, Fishery Management Specialist, phone: (978) 281-9341, fax: (978) 281-9135, email: heather.sagar@noaa.gov

SUPPLEMENTARY INFORMATION:

Background

On October 1, 2003, CCCHFA, in collaboration with the New England Aquarium and NMFS, submitted a complete application for up to six vessels to conduct a study on mortality rates and survivability of undersized Atlantic cod harvested in the bottom-set longline and jig fisheries in southern New England. Currently the mortality for undersized cod returned to the water is considered to be 100 percent, since there is little information to indicate otherwise. Exemptions would be necessary to relieve vessels from the restrictions on possession of undersized Atlantic cod at § 648.83(a). The proposed study would occur inside the area defined as follows: The outer Cape Cod shoreline at 42° N. lat. and 70° W. long., then follow the 70° W. long. line south to the northern border of the Nantucket Lightship Closed Area, then follow the northern border of the Nantucket Lightship Closed Area east to 69° W. long., then follow the 69° W. long. line north to the western border of Georges Bank Closed Area I, then follow the western border of Georges Bank Closed Area I (Loran C 13700) to the 42° N. lat. line, then follow the 42° N. lat. line west to 70° W. long. At no time would fishing operations be conducted inside year-round closure areas.

The experiment would occur from December 2003 through November 2004, during which time longline vessels would sample at 20, 30, and 40 fathoms (36.6, 54.9, and 73.2 m, respectively) 3 times each, during each season, for a total of 36 trips ( 3 depths x 3 samples x 4 seasons = a total of 36 days). There will be six vessels participating in this study for a total of 36 trips for the experiment. Each vessel would fish its bottom-set longline gear consisting of 1,800 ft (548.6 m) of mainline with 300 #12 circle hooks spaced every 6 ft (1.83 m). Approximately 3,600 hooks would be set per fishing day, with a soak time of 3-4 hours. After the vessel sets the longline it would begin the jigging portion of the study. The undersized cod would be measured, weighed, and tagged to determine survivability rates of the undersized cod. The applicant would use two different handling techniques for all longline caught fish: Alternate fish would be flipped off the hook or snubbed (allowing the hook to pass through the jaw). All fish caught during the jigging portion would be flipped off the hook. During each season, a minimum of 150 undersized fish would be collected and retained for 72 hours in each cage at each of the sample depths. The cage would be constructed to hug tight to the sea floor and to resist rolling in the highly tidal areas. Other than the above protocol, the vessels would follow normal fishing practices. All fish landed would be subject to existing minimum size and trip limit requirements.

A scientific data collector would be present on board each participating vessel. Scientific data collectors would be responsible for collecting all relevant biological and environmental data. CCCHFA would be responsible for developing a full report of results and provide this report to NMFS.

Regulations under the Magnuson-Stevens Fishery Conservation and Management Act require publication of this notification to provide interested parties the opportunity to comment on applications for proposed EFPs.

Authority: 16 U.S.C. 1801 et seq.

Dated: November 3, 2003.
Bruce C. Morehead,
Acting Director, Office of Sustainable Fisheries, National Marine Fisheries Service.

[FR Doc. 03-28210 Filed 11-10-03; 8:45 am]

BILLING CODE 3510-22-S